DEPARTMENT OF HEALTH AND HUMAN SERVICES

Substance Abuse and Mental Health Services Administration (SAMHSA)

Notice of a Meeting

Pursuant to Public Law 92-463, notice is hereby given that the Substance Abuse and Mental Health Services Administration (SAMHSA) National Advisory Council will meet in an open session on April 26, 2006, from 2 p.m. to 4 p.m., via teleconference.

The Centers for Medicare and Medicaid Services' (CMS) Prescription Drug Program (Medicare Part D) and its impact on SAMHSA's consumers will be discussed at the meeting. Representatives from CMS will provide an update and an overview of their outreach and education campaigns.

The public is invited to attend in person or to listen to the discussion via telephone. Due to limited space, seating will be on a registration-only basis. To register, obtain the teleconference call-in number, and the access code, get in touch with the SAMHSA Council Executive Secretary, Ms. Toian Vaughn (see contact information below). Please communicate with Ms. Vaughn to make arrangements to comment or to request special accommodations for persons with disabilities.

Substantive program information, a summary of the meeting, and a roster of Council members can be obtained after the meeting by contacting Ms. Vaughn or by accessing the SAMHSA Council Web site, http://www.samhsa.gov/council. The meeting transcript will also be available on the SAMHSA Council Web site within three weeks after the meeting.

Committee Name: SAMHSA National Advisory Council.

Date/Time: Wednesday, April 26, 2006, 2 p.m. to 4 p.m. (Open-Teleconference).

Place: 1 Choke Cherry Road, Sugarloaf Conference Room, Rockville, Maryland 20857.

Contact: Toian Vaughn, M.S.W., Executive Secretary, SAMHSA National Advisory Council and SAMHSA Committee Management Officer, 1 Choke Cherry Road, Room 8-1089, Rockville, Maryland 20857. Telephone: (240) 276-2307; FAX: (240) 276-2220 and E-mail: toian.vaughn@samhsa.hhs.gov.

Dated: March 23, 2006.
Toian Vaughn,
Executive Secretary, SAMHSA National Advisory Council and SAMHSA Committee, Management Officer.

[FR Doc. E6-4617 Filed 3-29-06; 8:45 am]

BILLING CODE 4162-20-P